DEPARTMENT OF ENERGY

10 CFR Part 430

[Docket No. EERE-2014-BT-STD-0031]

RIN 1904-AD20

Energy Conservation Program: Energy Conservation Standards for Residential Furnaces

AGENCY: Office of Energy Efficiency and Renewable Energy, Department of Energy.

ACTION: Reopening of public comment period.

SUMMARY: On September 23, 2016, the U.S. Department of Energy (DOE) published a supplemental notice of proposed rulemaking (SNOPR) and announcement of public meeting pertaining to proposed energy conservation standards for residential furnaces in the Federal Register. The notice provided an opportunity for submitting written comments, data, and information by November 22, 2016. This document announces a reopening of the public comment period for submitting comments and data on the SNOPR or any other aspect of the rulemaking for residential furnaces. The comment period is reopened until January 6, 2017.

DATES: The comment period for the supplemental notice of proposed rulemaking published on September 23, 2016 (81 FR 65719) is reopened. DOE will accept comments, data, and information regarding this rulemaking received no later than January 6, 2017.

ADDRESSES: Instructions: Any comments submitted must identify the SNOPR on Energy Conservation Standards for Residential Furnaces, and provide docket number EERE-2014-BT-STD-0031 and/or regulatory information number (RIN) 1904-AD20. Comments may be submitted using any of the following methods:

(1) Federal eRulemaking Portal: www.regulations.gov. Follow the instructions for submitting comments.

(2) Email: ResFurnaces2014STD0031@ee.doe.gov. Include the docket number and/or RIN in the subject line of the message. Submit electronic comments in WordPerfect, Microsoft Word, PDF, or ASCII file format, and avoid the use of special characters or any form of encryption.

(3) Postal Mail: Appliance and Equipment Standards Program, U.S. Department of Energy, Building Technologies Office, Mailstop EE-5B, 1000 Independence Avenue SW., Washington, DC 20585-0121. If possible, please submit all items on a compact disc (CD), in which case it is not necessary to include printed copies.

(4) Hand Delivery/Courier: Appliance and Equipment Standards Program, U.S. Department of Energy, Building Technologies Office, 950 L'Enfant Plaza SW., 6th Floor, Washington, DC 20024. Telephone: (202) 586-6636. If possible, please submit all items on a CD, in which case it is not necessary to include printed copies.

Docket: The docket, which includes Federal Register notices, public meeting attendee lists and transcripts, comments, and other supporting documents/materials, is available for review at www.regulations.gov. All documents in the docket are listed in the www.regulations.gov index. However, some documents listed in the index may not be publicly available, such as those containing information that is exempt from public disclosure.

The docket Web page can be found at: http://www.regulations.gov/#!docketDetail;D=EERE-2014-BT-STD-0031. The docket Web page contains simple instructions on how to access all documents, including public comments, in the docket.

FOR FURTHER INFORMATION CONTACT:

Mr. John Cymbalsky, U.S. Department of Energy, Office of Energy Efficiency and Renewable Energy, Building Technologies Program, EE-2J, 1000 Independence Avenue SW., Washington, DC 20585-0121. Telephone: (202) 287-1692. Email: residential_furnaces_and_boilers@ee.doe.gov.

Ms. Johanna Jochum, U.S. Department of Energy, Office of the General Counsel, GC-33, 1000 Independence Avenue SW., Washington, DC 20585-0121. Telephone: (202) 287-6307. Email: Johanna.Jochum@hq.doe.gov.

SUPPLEMENTARY INFORMATION: On September 2, 2016, DOE issued a pre-publication supplemental notice of proposed rulemaking (September 2016 SNOPR) pertaining to proposed energy conservation standards for residential furnaces on the Appliance and Equipment Standards Web page http://energy.gov/eere/buildings/downloads/issuance-2016-09-02-energy-conservation-program-energy-conservation. DOE also posted on the same Web page its analytical tools and supplementary documentation for residential furnaces. In that pre-publication notice, DOE provided for a 30-day comment period. Following the issuance of the pre-publication notice, Spire Inc., the Air-Conditioning, Heating, and Refrigeration Institute (AHRI), and the American Gas Association and American Public Gas Association (AGA/APGA, jointly) submitted requests that DOE extend the 30-day comment period by 60 additional days. (Spire, No. 219 at p. 1; AGA/APGA, No. 220 at pp. 1-3; AHRI, No. 221 at p. 1) These commenters requested additional time to review DOE's analytical tools and supplementary materials supporting the September 2016 SNOPR. To accommodate those requests, DOE extended the comment period by 30 days when it published in the Federal Register the September 23, 2016 SNOPR, providing for a comment period of 60 days ending November 22, 2016. 81 FR 65719. During the SNOPR public meeting on October 17, 2016, DOE noted that between the date of issuance of the pre-publication notice (along with analytical tools and documentation) and the end of the comment period on November 22, 2016, interested parties would have had 81 days to review the notice, analytical tools and supplementary documentation. (DOE, No. 243 at p. 213)

Following publication in the Federal Register of the September 2016 SNOPR on September 23, 2016, commenters again requested that DOE extend the comment period to provide for a 90 day total comment period. (AGA/APGA, No. 232 at p. 1; Spire, No. 234 at p. 14; APGA, No. 235 at p. 2; Lennox, No. 245 at pp. 1-2; Heating, Air-conditioning, and Refrigeration Distributors International and Air-Conditioning Contractors of America, No. 251 at p. 1; APGA, SNOPR Public Meeting Transcript, No. 243 at p. 31) Some commenters subsequently submitted requests for an even longer extension, equivalent to a total 120 day comment period. (Spire, No. 241 at pp. 1-2; AGA/APGA, No. 242 at pp. 1-2; AHRI, No. 244 at p. 1; Carrier, No. 250 at p. 1) Spire submitted an additional comment that a 90-day comment period would be acceptable, and AGA requested that DOE issue a written response to the comment period extension requests. (Spire, No. 247 at p.1; AGA, No. 249 at p.1) In general, commenters suggested that the quantity of supplemental information supporting the rulemaking analysis warranted additional time for review. The National Resource Defense Council (NRDC) suggested that DOE's extension from the 30-day comment period in the pre-publication notice to the 60-day period at publication represented a delay, and recommended that DOE not extend the comment period any further. (NRDC, SNOPR Public Meeting Transcript, No. 243 at p. 50)

In view of the requests for an additional comment period extension for the September 2016 SNOPR, DOE has determined that a reopening of the public comment period and a 45-day extension to January 6, 2017 for the September 2016 SNOPR is appropriate. The comment period is reopened until January 6, 2017. DOE further notes that any submissions of comments or other information submitted between the original comment end date and January 6, 2017 will be deemed timely filed.

Issued in Washington, DC, on November 21, 2016.
Kathleen B. Hogan,
Deputy Assistant Secretary for Energy Efficiency, Energy Efficiency and Renewable Energy.

[FR Doc. 2016-29080 Filed 12-2-16; 8:45 am]

BILLING CODE 6450-01-P